DEPARTMENT OF ENERGY

Federal Energy Regulatory Commission

Combined Notice of Filings #1

Take notice that the Commission received the following exempt wholesale generator filings:

Docket Numbers: EG14-32-000.

Applicants: Copper Mountain Solar 3, LLC.

Description: Self-Certification of EG or FC of Copper Mountain Solar 3, LLC.

Filed Date: 3/20/14.

Accession Number: 20140320-5067.

Comments Due: 5 p.m. ET 4/10/14.

Take notice that the Commission received the following electric rate filings:

Docket Numbers: ER14-376-002.

Applicants: MATL LLP.

Description: MATL LLP submits tariff filing per 35: Order 764 Compliance to be effective 11/12/2013.

Filed Date: 3/20/14.

Accession Number: 20140320-5058.

Comments Due: 5 p.m. ET 4/10/14.

Docket Numbers: ER14-1157-001.

Applicants: Wolverine Power Supply Cooperative, Inc.

Description: Amendment to 271 to be effective 3/28/2014.

Filed Date: 3/19/14.

Accession Number: 20140319-5125.

Comments Due: 5 p.m. ET 4/9/14.

Docket Numbers: ER14-1537-000.

Applicants: ISO New England Inc., New England Power Pool Participants Committee.

Description: Regulation Market Changes to be effective 5/21/2014.

Filed Date: 3/20/14.

Accession Number: 20140320-5033.

Comments Due: 5 p.m. ET 4/10/14.

Docket Numbers: ER14-1538-000.

Applicants: Pacific Gas and Electric Company.

Description: Pacific Gas and Electric Company Notice of Termination for the Elite Energy Systems, LLC SGIA, Service Agreement No. 226 under PG&E FERC Electric Volume No. 4.

Filed Date: 3/20/14.

Accession Number: 20140320-5051.

Comments Due: 5 p.m. ET 4/10/14.

Docket Numbers: ER14-1539-000.

Applicants: Southwest Power Pool, Inc.

Description: Southwest Power Pool, Inc. submits: Update OASIS Definition to be effective 5/19/2014.

Filed Date: 3/20/14.

Accession Number: 20140320-5053.

Comments Due: 5 p.m. ET 4/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2014.
Nathaniel J. Davis, Sr.,
Deputy Secretary.

[FR Doc. 2014-06881 Filed 3-27-14; 8:45 am]

BILLING CODE 6717-01-P